DEPARTMENT OF THE INTERIOR

Bureau of Land Management

[BLM_NV_FRN_MO# 4500178790; NVNV-106316914]

Notice of Proposed Withdrawal Revocation; Proposed Restoration of Public Lands; Proposed Transfer Into Trust; Nevada

AGENCY: Bureau of Land Management, Interior.

ACTION: Notice.

SUMMARY: The Bureau of Reclamation (BOR) has submitted a notice of intent to relinquish its administration of certain lands withdrawn by Secretary's Order dated November 26, 1906, which withdrew all lands within one mile of the highwater mark of Walker Lake in Mineral County, Nevada. These lands are no longer needed by BOR for project purposes. The Bureau of Land Management (BLM) has evaluated the lands and determined the lands are suitable for restoration to the public domain. In addition, the Western Regional Office, Bureau of Indian Affairs (BIA), has requested that the Secretary of the Interior permanently withdraw and transfer some of these relinquished lands, as well as other existing public lands, as an addition to the Walker River Paiute Reservation under the authority of the Act of June 22, 1936. This notice advises the public of a 30-day opportunity to comment on the proposed withdrawal revocation, restoration of relinquished lands to the public domain, and withdrawal and transfer of public land into trust.

DATES: Comments must be received by August 7, 2024.

ADDRESSES: All comments should be mailed to: Bureau of Land Management Stillwater Field Office, Attn: Walker River Revocation, 5665 Morgan Mill Road, Carson City, NV 89701.

FOR FURTHER INFORMATION CONTACT: Joseph Palma, BLM Stillwater Field Office, (775) 885-6131 or jpalma@blm.gov during regular business hours, 8:00 a.m. to 4:30 p.m. Mountain Time, Monday through Friday, except holidays. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BOR, Lahontan Basin Area Office, has submitted a notice of intent to relinquish administration of certain lands withdrawn for BOR Newlands Project purposes and described below. These lands were part of the larger Truckee-Carson Project withdrawal established by Secretary's Order dated November 26, 1906, which withdrew all lands within one mile of the highwater mark of Walker Lake in Mineral County, Nevada. The subject land was omitted from the legal description in a Secretary's Order dated May 25, 1942, that revoked the 1906 withdrawal order. These lands are no longer needed by the BOR for project purposes. The BLM has determined the lands are suitable for restoration to the public domain.

In addition, the Western Regional Office, BIA, has submitted an application for the BLM to process on behalf of the Secretary the permanent withdrawal and transfer of some of these relinquished lands into trust as an addition to the Walker River Paiute Reservation under the authority of Public Law 74-748 (49 Stat. 1806), dated June 22, 1936 (1936 Act). Once restored to the public domain, the lands would be identified as public land inholdings surrounded by Reservation lands that may be administratively transferred to the Walker River Paiute Tribe as an addition to the Reservation under the 1936 Act, upon approval by the Secretary of the Interior. Some acres identified for relinquishment by the BOR overlap with a previous withdrawal for the Reservation; these acres would transfer to Tribal management upon Secretarial revocation of the BOR withdrawal. The BIA has also requested the withdrawal and transfer into trust of additional public lands, as described below.

BOR withdrawn lands identified for relinquishment are described as follows:

Mount Diablo Meridian, Nevada

T. 12 N., R. 28 E.,

Sec. 25, lot 4.

T. 11 N., R. 29 E.,

Sec. 9, NE¼SW¼;

Sec. 18, NE¼NE¼.

The areas described aggregate 109.60 acres.

Public lands subject to withdrawal and transfer as an addition to the Walker River Indian Reservation, to be held in trust for the benefit of the Walker River Paiute Tribe, under the 1936 Act, are described as follows:

Mount Diablo Meridian, Nevada

T. 12 N., R. 28 E.,

Sec. 25, lot 4.

T. 11 N., R. 29 E.,

Sec. 18, NE¼NE¼.

T. 12 N., R. 29 E.,

Sec. 27, lots 1 and 2, and SE¼SE¼.

The areas described aggregate 173.25 acres.

For a period until August 7, 2024, persons who wish to submit comments regarding the proposed action may present their views in writing to the address listed in the ADDRESSES section above.

Before including your address, phone number, email address, or other personal identifying information in your comment, you should be aware that your entire comment—including your personal identifying information—may be made publicly available at any time. While you may ask the BLM in your comment to withhold your personal identifying information from public review, we cannot guarantee that we will be able to do so.

The BOR lands described in this notice will remain withdrawn from entry under the United States mining laws while the proposed action is being processed. All activities on the BLM managed lands currently consistent with the Carson City Field Office May 2001 Consolidated Resource Management Plan, as amended, are authorized to continue, including public recreation and other activities compatible with preservation of the character of the area, subject to BLM discretionary approval, until such time as the Secretary issues a decision on the proposed action.

(Authority: 43 U.S.C. 1714 and Pub. L. 74-748, June 22, 1936)

Jon K. Raby,
State Director.

[FR Doc. 2024-14913 Filed 7-5-24; 8:45 am]

BILLING CODE 4331-16-P